DEPARTMENT OF ENERGY

Federal Energy Regulatory Commission

Sunshine Act Notice

November 10, 2004.

The following notice of meeting is published pursuant to section 3(a) of the government in the Sunshine Act (Pub. L. 94-409), 5 U.S.C 552b:

Agency Holding Meeting: Federal Energy Regulatory Commission.

Date and Time: November 18, 2004, 10 a.m.

Place: Room 2C, 888 First Street, NE., Washington DC 20426.

Status: Open.

Matters to be Considered: Agenda.

*Note—Items listed on the agenda may be deleted without further notice.

Contact person for more Information: Magalie R. Salas, Secretary, Telephone (202) 502-8400. For a recorded listing of items stricken from or added to the meeting, call (202) 502-8627.

This is a list of matters to be considered by the Commission. It does not include a listing of all papers relevant to the items on the agenda; however, all public documents may be examined in the Public Reference Room.

874th—Meeting Regular Meeting November 18, 2004 10 a.m.

Administrative Agenda

A-1.

AD02-1-000, Agency Administrative Matters

A-2.

AD02-7-000, Customer Matters, Reliability, Security and Market Operations

A-3.

2004-2005, Winter Energy Market Assessment

Markets, Tariffs, and Rates—Electric

E-1.

OMITTED

E-2.

OMITTED

E-3.

ER04-1252-000, Midwest Independent Transmission System, Inc. and Ameren Services Company

E-4.

ER05-6-000, Midwest Independent Transmission System Operator, Inc.

EL02-111-010, Midwest Independent Transmission System Operator, Inc., and PJM Interconnection, LLC, et al.

EL02-111-011, Midwest Independent Transmission System Operator, Inc., and PJM Interconnection, LLC, et al.

EL02-111-014, Midwest Independent Transmission System Operator, Inc., and PJM Interconnection, LLC, et al.

EL02-111-015, Midwest Independent Transmission System Operator, Inc., and PJM Interconnection, LLC, et al.

EL02-111-016, Midwest Independent Transmission System Operator, Inc., and PJM Interconnection, LLC, et al.

EL02-111-019, Midwest Independent Transmission System Operator, Inc., and PJM Interconnection, LLC, et al.

EL04-135-000, Midwest Independent Transmission System Operator, Inc., and PJM Interconnection, LLC, et al.

EL03-212-005, Ameren Services Company, et al.

EL03-212-006, Ameren Services Company, et al.

EL03-212-007, Ameren Services Company, et al.

EL03-212-009, Ameren Services Company, et al.

EL03-212-011, Ameren Services Company, et al.

EL03-212-013, Ameren Services Company, et al.

EL03-212-014, Ameren Services Company, et al.

EL03-212-016, Ameren Services Company, et al.

E-5.

ER03-262-016, New PJM Companies American Electric Power Service Corp. On behalf of its operating companies Appalachian Power Company, Columbus Southern Power Company, Indiana Michigan Power Company, Kentucky Power Company, Kingsport Power Company, Ohio Power Company, and Wheeling Power Company

Commonwealth Edison Company, and Commonwealth Edison Company of Indiana, Inc.

The Dayton Power and Light Company, and PJM Interconnection, LLC

ER03-262-010, New PJM Companies American Electric Power Service Corp. On behalf of its operating companies Appalachian Power Company, Columbus Southern Power Company, Indiana Michigan Power Company, Kentucky Power Company, Kingsport Power Company, Ohio Power Company, and Wheeling Power Company

Commonwealth Edison Company, and Commonwealth Edison Company of Indiana, Inc.

The Dayton Power and Light Company, and PJM Interconnection, LLC

ER03-262-016, New PJM Companies American Electric Power Service Corp. On behalf of its operating companies Appalachian Power Company, Columbus Southern Power Company, Indiana Michigan Power Company, Kentucky Power Company, Kingsport Power Company, Ohio Power Company, and Wheeling Power Company

Commonwealth Edison Company, and Commonwealth Edison Company of Indiana, Inc.

The Dayton Power and Light Company, and PJM Interconnection, LLC

EC98-40-010, New PJM Companies American Electric Power Service Corp. On behalf of its operating companies Appalachian Power Company, Columbus Southern Power Company, Indiana Michigan Power Company, Kentucky Power Company, Kingsport Power Company, Ohio Power Company, and Wheeling Power Company

Commonwealth Edison Company, and Commonwealth Edison Company of Indiana, Inc.

The Dayton Power and Light Company, and PJM Interconnection, LLC

ER98-2770-011, New PJM Companies American Electric Power Service Corp. On behalf of its operating companies Appalachian Power Company, Columbus Southern Power Company, Indiana Michigan Power Company, Kentucky Power Company, Kingsport Power Company, Ohio Power Company, and Wheeling Power Company

Commonwealth Edison Company, and Commonwealth Edison Company of Indiana, Inc.

The Dayton Power and Light Company, and PJM Interconnection, LLC

ER98-2786-011, New PJM Companies American Electric Power Service Corp. On behalf of its operating companies Appalachian Power Company, Columbus Southern Power Company, Indiana Michigan Power Company, Kentucky Power Company, Kingsport Power Company, Ohio Power Company, and Wheeling Power Company

Commonwealth Edison Company, and Commonwealth Edison Company of Indiana, Inc.

The Dayton Power and Light Company, and PJM Interconnection, LLC

E-6.

OMITTED

E-7.

OMITTED

E-8.

OMITTED

E-9.

OMITTED

E-10.

ER04-1254-000, Illinois Power Company

ER04-1239-000, Midwest Independent Transmission System Operator, Inc.

E-11.

ER04-1244-000, NorthPoint Energy Solutions Inc.

E-12.

ER05-12-000, PJM Interconnection L.L.C.

E-13.

OMITTED

E-14.

ER05-26-000, Mirant Kendall, LLC and Mirant Americas Energy Marketing, L.P.

E-15.

OMITTED

E-16.

ER05-41-000, Oasis Power Partners, LLC

E-17.

EL04-128-000, Sulphur Springs Valley Electric Cooperative, Inc.

E-18.

ER98-3760-000, California Independent System Operator Corporation

E-19.

ER01-751-006, Mountain View Power Partners, LLC

ER01-751-001, Mountain View Power Partners, LLC

E-20.

OMITTED

E-21.

ER01-1559-002, PPL Wallingford Energy LLC

ER01-1559-003, PPL Wallingford Energy LLC

E-22.

OMITTED

E-23.

ER04-510-002, Central Vermont Public Service Corporation

ER04-510-003, Central Vermont Public Service Corporation

EL04-88-001, Central Vermont Public Service Corporation

EL04-88-002, Central Vermont Public Service Corporation

E-24.

OMITTED

E-25.

QF92-156-006, Pasco Cogen, Ltd.

EL04-140-000, Pasco Cogen, Ltd.

E-26.

EL04-90-000, Nevada Power Company

E-27.

EL04-120-000, Exelon Corporation

E-28.

OMITTED

E-29.

EL04-136-000, MGE Energy, Inc., MGE Power LLC, and MGE Power Elm Road LLC

E-30.

OMITTED

E-31.

EL04-137-000, Cabazon Wind Partners, LLC v. Southern California Edison Company

E-32.

EL04-126-000, PSEG Power In-City I, LLC v. Consolidated Edison Company of New York, Inc.

E-33.

EL04-139-000, California Electricity Oversight Board v. California Independent System Operator Corporation

E-34.

EL04-130-000, Duke Energy Moss Landing, LLC v. California Independent System Operator Corporation

E-35.

EL04-122-000, PPL University Park, LLC v. Commonwealth Edison Company

E-36.

EL03-27-000, Niagara Mohawk Power Corporation v. Huntley Power LLC, NRG Huntley Operations, Inc., Dunkirk Power LLC, NRG Dunkirk Operations, Inc., Oswego Harbor Power LLC, and NRG Oswego Operations, Inc.

E-37.

EL04-100-000, Colorado River Commission of Nevada v. Nevada Power Company

E-38.

EL04-134-000, East Texas Electric Cooperative, Inc. v. Entergy Arkansas, Inc.

E-39.

OMITTED

E-40.

PL05-3-000, Order on Electric Creditworthiness

E-41.

OMITTED

E-42.

OMITTED

E-43.

ER04-132-000, Wolverine Power Supply Cooperative, Inc.

EL04-38-000, Wolverine Power Supply Cooperative, Inc.

E-44.

ER03-606-000, Wisconsin Public Service Corp

E-45.

ER04-375-010, PJM Interconnection LLC

ER04-521-006, Midwest Independent Transmission System Operator

ER04-718-005, PJM Interconnection LLC and Commonwealth Edison Company

ER04-364-002, Commonwealth Edison Company, Commonwealth Edison Company of Indiana, Inc., and American Electric Power Service Corporation

E-46.

ER04-446-002, Midwest Independent Transmission System Operator, Inc.

E-47.

ER04-14-000, Detroit Edison Company

EL04-29-000, Detroit Edison Company

E-48.

ER04-215-000, Pacific Gas and Electric Company

E-49.

OMITTED

E-50.

ER03-405-001, PJM Interconnection L.L.C.

ER03-405-002, PJM Interconnection L.L.C.

ER03-405-003, PJM Interconnection L.L.C.

E-51.

EL03-216-001, Northeast Utilities Service Company and Select Energy, Inc., v. ISO New England Inc., and New England Power Pool

E-52.

ER04-375-007, Midwest Independent Transmission System Operator, Inc., and PJM Interconnection L.L.C.

E-53.

NJ04-3-001, South Carolina Public Service Authority

E-54.

ER04-35-001, Entergy Services, Inc

ER04-35-002, Entergy Services, Inc

E-55.

ER03-194-003, PJM Interconnection L.L.C.

ER03-309-003, Allegheny Power

ER03-194-004, PJM Interconnection L.L.C.

ER03-194-005, PJM Interconnection L.L.C.

ER03-309-007, Allegheny Power

E-56.

OMITTED

E-57.

EL00-95-100, San Diego Gas & Electric Company v. Sellers of Energy and Ancillary Services Into Markets Operated by the California Independent System Operator and the California Power Exchange

EL00-98-088, Investigation of Practices of the California Independent System Operator and the California Power Exchange

E-58.

OMITTED

E-59.

ER03-872-004, Southern Company Services, Inc.

ER05-13-000, Southern Company Services, Inc

E-60.

ER04-564-000, Wayne-White Counties Electric Cooperative

E-61.

ER03-600-003, Cross-Sound Cable Company, LLC

ER03-600-002, Cross-Sound Cable Company, LLC

ER03-600-004, Cross-Sound Cable Company, LLC

Miscellaneous Agenda

M-1.

PL03-3-005, Price Index Monitoring and Use in Tariffs

AD03-7-005, Natural Gas Price Formation

ER03-1271-000, Aquila, Inc.

CP03-7-000, Colorado Interstate Gas Company

CP03-301-000, Colorado Interstate Gas Company

CP03-302-000, Cheyenne Plains Gas Pipeline Company

CP03-302-001, Cheyenne Plains Gas Pipeline Company

CP03-302-002, Cheyenne Plains Gas Pipeline Company

CP03-303-000, Cheyenne Plains Gas Pipeline Company

CP03-304-000, Cheyenne Plains Gas Pipeline Company

RP03-245-000, Kinder Morgan Interstate Gas Transmission LLC

RP99-176-089, Natural Gas Pipeline Company of America

RP99-176-094, Natural Gas Pipeline Company of America

RP02-363-002, North Baja Pipeline, LLC

RP03-533-000, Northern Natural Gas Company

RP03-70-003, PG&E Gas Transmission, Northwest Corporation

RP03-70-002, PG&E Gas Transmission, Northwest Corporation

CP01-421-000, Portland General Electric Company

CP01-421-001, Portland General Electric Company

RP03-540-000, Transcontinental Gas Pipe Line Corporation

ER04-439-001, PacifiCorp

RP03-398-000, Northern Natural Gas Company

CP01-418-000, B-R Pipeline Company

Markets, Tariffs, and Rates—Gas

G-1.

RP04-97-003, Equitrans, L.P.

RP04-203-001, Equitrans, L.P.

RP04-203-002, Equitrans, L.P.

RP04-97-001, Equitrans, L.P.

RP04-97-005, Equitrans, L.P.

CP05-18-000, Equitrans, L.P.

G-2

RM05-2-000, Policy for Selective Discounting by Natural Gas Pipelines

G-3.

OR96-2-010, ARCO Products Co., a Division of Atlantic Richfield Company, Texaco Refining and Marketing Inc., and Mobil Oil Corporation v. SFPP

OR96-10-007, ARCO Products Co., a Division of Atlantic Richfield Company, Texaco Refining and Marketing Inc., and Mobil Oil Corporation v. SFPP

OR96-10-009, ARCO Products Co., a Division of Atlantic Richfield Company, Texaco Refining and Marketing Inc., and Mobil Oil Corporation v. SFPP

OR98-1-009, ARCO Products Co., a Division of Atlantic Richfield Company, Texaco Refining and Marketing Inc., and Mobil Oil Corporation v. SFPP

OR98-1-011, ARCO Products Co., a Division of Atlantic Richfield Company, Texaco Refining and Marketing Inc., and Mobil Oil Corporation v. SFPP

OR00-4-002, ARCO Products Co., a Division of Atlantic Richfield Company, Texaco Refining and Marketing Inc., and Mobil Oil Corporation v. SFPP

OR00-4-004, ARCO Products Co., a Division of Atlantic Richfield Company, Texaco Refining and Marketing Inc., and Mobil Oil Corporation v. SFPP

OR92-2-003, Ultramar Diamond Shamrock Corporation, Ultramar, Inc. v. SFPP

OR92-2-004, Ultramar Diamond Shamrock Corporation, Ultramar, Inc. v. SFPP

OR96-15-008, Ultramar Diamond Shamrock Corporation, Ultramar, Inc. v. SFPP

OR96-15-009, Ultramar Diamond Shamrock Corporation, Ultramar, Inc. v. SFPP

OR96-17-004, Ultramar Diamond Shamrock Corporation, Ultramar, Inc. v. SFPP

OR96-17-006, Ultramar Diamond Shamrock Corporation, Ultramar, Inc v. SFPP

OR97-2-004, Ultramar Diamond Shamrock Corporation, Ultramar, Inc v. SFPP

OR97-2-005, Ultramar Diamond Shamrock Corporation, Ultramar, Inc v. SFPP

OR98-2-005, Ultramar Diamond Shamrock Corporation, Ultramar, Inc v. SFPP

OR98-2-007, Ultramar Diamond Shamrock Corporation, Ultramar, Inc v. SFPP

OR00-8-005, Ultramar Diamond Shamrock Corporation, Ultramar, Inc v. SFPP

OR00-8-007, Ultramar Diamond Shamrock Corporation, Ultramar, Inc v. SFPP

OR98-13-005, Tosco Corporation v SFPP

OR98-13-007, Tosco Corporation v SFPP

OR00-9-005, Tosco Corporation v SFPP

OR00-9-007, Tosco Corporation v SFPP

OR00-7-005, Navajo Refining Corporation v. SFPP

OR00-7-006, Navajo Refining Corporation v. SFPP

OR00-10-005, Refinery Holding Company v. SFPP

OR00-10-006, Refinery Holding Company v. SFPP

IS98-1-001, SFPP, L.P.

IS98-1-002, SFPP, L.P.

OR92-8-024, SFPP, L.P.

OR93-5-015, SFPP, L.P.

OR94-3-014, SFPP, L.P.

OR94-4-016, SFPP, L.P.

OR95-5-013, Mobil Oil Corporation v. SFPP, L.P.

OR95-34-012, Tosco Corporation v. SFPP, L.P.

G-4.

OMITTED

G-5.

RP05-29-000, Florida Gas Transmission Company

G-6.

RP04-25-002, Texas Eastern Transmission, L.P.

G-7.

RP97-13-011, East Tennessee Natural Gas, LLC

G-8.

OMITTED

G-9.

RP03-620-001, Portland Natural Gas Transmission System

RP03-620-000, Portland Natural Gas Transmission System

G-10.

PR04-8-001, Arkansas Oklahoma Gas Corporation

G-11.

RP04-91-001, Questar Pipeline Company

RP04-91-000, Questar Pipeline Company

RP04-91-002, Questar Pipeline Company

G-12.

RP95-197-050, Transcontinental Gas Pipe Line Corporation

RP97-71-041, Transcontinental Gas Pipe Line Corporation

G-13.

RP04-378-000, Gas Technology Institute

G-14.

TS04-283-000, Central New York Oil and Gas Company, LLC

TS05-2-000, Energy West Development

TS04-150-001, Granite State Gas Transmission, Inc.

TS04-277-000, Green Mountain Power Corporation

TS04-284-000, Ozark Gas Transmission, L.L.C.

TS04-274-001, Shell Gas Transmission, L.L.C.

G-15.

RP04-254-000, City of Hamilton, Ohio v. Texas Eastern Transmission, L.P.

G-16.

RP00-332-009, ANR Pipeline Company

G-17.

RP04-405-001, Northern Natural Gas Company

G-18.

RP05-35-000, Transcontinental Gas Pipe Line Corporation

Energy Projects—Hydro

H-1.

P-516-388, South Carolina Electric & Gas Company

P-516-394, South Carolina Electric & Gas Company

H-2.

P-11810-006, City of Augusta, Georgia

H-3.

P-2016-086, City of Tacoma, Washington

H-4.

P-2145-062, Public Utility District No. 1 of Chelan County, Washington

P-943-089, Public Utility District No. 1 of Chelan County, Washington

P-2149-113, Public Utility District No. 1 of Douglas County, Washington

H-5.

P-2436-187, Consumers Energy Company

P-2448-186, Consumers Energy Company

P-2452-162, Consumers Energy Company

P-2447-178, Consumers Energy Company

P-2449-160, Consumers Energy Company

P-2450-158, Consumers Energy Company

P-2451-154, Consumers Energy Company

P-2453-186, Consumers Energy Company

P-2468-160, Consumers Energy Company

P-2580-216, Consumers Energy Company

P-2599-178, Consumers Energy Company

H-6.

OMITTED

H-7.

P-2816-031, North Hartland, LLC

H-8.

P-2004-160, City of Holyoke Gas and Electric Department

H-9.

P-77-127, Pacific Gas and Electric Company

H-10.

P-2576-040, Northeast Generation Company

P-2597-025, Northeast Generation Company

Energy Projects—Certificates

C-1.

RM05-1-000, Regulations Governing the Conduct of Open Seasons for Alaska Natural Gas Transmission Projects

C-2.

CP04-13-001, Saltville Gas Storage Company, LLC

CP04-14-002, Saltville Gas Storage Company, LLC

CP04-13-002, Saltville Gas Storage Company, LLC

C-3.

RP04-616-000, Northern Natural Gas Company v. ANR Pipeline Company

C-4.

CP04-379-000, Pine Prairie Energy Center, LLC

CP04-380-000, Pine Prairie Energy Center, LLC

CP04-381-000, Pine Prairie Energy Center, LLC

C-5.

CP04-76-000, Equitrans, L.P.

C-6.

CP04-105-000, CMS Gas Transmission Company and Bluewater Gas Storage, L.L.C.

C-7.

CP04-404-000, Tennessee Gas Pipeline Company

C-8.

CP04-102-001, CenterPoint Energy Gas Transmission Company

Linda Mitry,
Deputy Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-25556 Filed 11-12-04; 4:18 pm]

BILLING CODE 6717-01-P